DEPARTMENT OF ENERGY

[12-06-LNG, 12-09-LNG, 12-10-LNG, et al.]

Orders Granting Authority To Import and Export Natural Gas and Liquefied Natural Gas During February 2012

| FE Docket Nos.
FREEPORT LNG EXPANSION, L.P. AND FLNG LIQUEFACTION, LLC | 12-06-LNG
EXCELERATE ENERGY L.P | 12-09-LNG
SHELL NA LNG LLC | 12-10-LNG
QUICKSILVER RESOURCES INC | 12-12-NG
UNITED ENERGY TRADING CANADA, ULC | 12-13-NG
ENCANA NATURAL GAS INC | 11-163-NG
ALCOA INC | 12-11-NG
JPMORGAN LNG CO | 12-15-LNG
CNE GAS SUPPLY, LLC | 12-17-NG

AGENCY: Office of Fossil Energy, Department of Energy.

ACTION: Notice of orders.

SUMMARY: The Office of Fossil Energy (FE) of the Department of Energy gives notice that during February 2012, it issued Orders granting authority to import and export natural gas and liquefied natural gas. These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8 a.m. and 4:30 p.m., Monday through Friday, except Federal holidays.

Issued in Washington, DC, on March 22, 2012.
John A. Anderson,
Manager, Natural Gas Regulatory Activities, Office of Oil and Gas Global Security and Supply, Office of Fossil Energy.

Appendix

DOE/FE Orders Granting Import/Export Authorizations
Date issued | FE Docket No. | Authorization holder | Description of action
02/10/12 | 12-06-LNG | Freeport LNG Expansion, L.P. and FLNG Liquefaction, LLC | Order granting long-term authority to export LNG by vessel from the Freeport Terminal to FTA nations.
02/15/12 | 12-09-LNG | Excelerate Energy L.P | Order granting blanket authority to import LNG from various sources by vessel.
02/15/12 | 12-10-lNG | Shell NA LNG LLC | Order granting blanket authority to import LNG from various sources by vessel.
02/15/12 | 12-12-NG | Quicksilver Resources Inc | Order granting blanket authority to import/export natural gas from/to Canada.
02/15/12 | 12-13-NG | United Energy Trading Canada, ULC | Order granting blanket authority to import/export natural gas from/to Canada.
02/15/12 | 11-163-LNG | Encana Natural Gas Inc | Order granting blanket authority to import/export LNG from/to Canada/Mexico by truck, rail, barge and waterborne vessels.
02/24/12 | 12-11-NG | ALCOA Inc | Order granting blanket authority to import natural gas from Canada.
02/24/12 | 12-15-LNG | JPMorgan LNG Co | Order granting blanket authority to import LNG from various sources by vessel.
02/24/12 | 12-17-NG | CNE Gas Supply, LLC | Order granting blanket authority to export natural gas to Canada/Mexico.

[FR Doc. 2012-7670 Filed 3-29-12; 8:45 am]

BILLING CODE 6450-01-P